FEDERAL COMMUNICATIONS COMMISSION

47 CFR Part 0

[GN Docket No. 09-191; WC Docket No. 07-52; FCC 10-201]

Preserving the Open Internet

AGENCY: Federal Communications Commission.

ACTION: Final rule; correction.

SUMMARY: The Federal Communications Commission published in the Federal Register of September 23, 2011, a document establishing rules to preserve the open Internet. Inadvertently the wrong paragraph was amended. This document corrects the error.

DATES: This correction is effective November 20, 2011.

FOR FURTHER INFORMATION CONTACT: Matt Warner, (202) 418-2419 or e-mail, matthew.warner@fcc.gov.

SUPPLEMENTARY INFORMATION: The Federal Communications Commission published a document in the Federal Register of May 2, 2011 (76 FR 24376), adding 47 CFR 0.111(a)(24). In FR Doc. 2011-24259, published in the Federal Register of September 23, 2011 (76 FR 59192), 47 CFR 0.111(a)(24) was inadvertently amended. This rule should stand as is in the current CFR. This correction removes the amendment to 47 CFR 0.111(a)(24) published on September 23, 2011 and instead adds 47 CFR 0.111(a)(25).

In rule FR Doc. 2011-24259, published September 23, 2011 (76 FR 59192), make the following correction. On page 59232, in the first column, revise amendatory instruction 2 to read as follows:

2. Section 0.111 is amended by adding paragraph (a)(25) to read as follows:

§ 0.111 Functions of the Bureau.

(a) * * *

(25) Resolve complaints alleging violations of the open Internet rules.

Federal Communications Commission.
Matt Warner,
Attorney Advisor.

[FR Doc. 2011-25287 Filed 9-29-11; 8:45 am]

BILLING CODE 6712-01-P